ENVIRONMENTAL PROTECTION AGENCY

40 CFR Part 52

[EPA-R04-OAR-2020-0676; FRL-10024-31-Region 4]

Air Plan Approval; SC; Updates to Ambient Air Quality Standards

AGENCY: Environmental Protection Agency (EPA).

ACTION: Proposed rule.

SUMMARY: The Environmental Protection Agency (EPA) is proposing to approve a State Implementation Plan (SIP) revision submitted by the State of South Carolina, through the South Carolina Department of Health and Environmental Control (SC DHEC or Department), on April 24, 2020. The SIP revision proposes a non-substantive formatting change and the removal of an outdated sentence regarding test methods for gaseous fluorides from South Carolina's ambient air quality standards regulation. EPA is proposing to approve these changes pursuant to the Clean Air Act (CAA or Act) and implementing federal regulations.

DATES: Comments must be received on or before June 28, 2021.

ADDRESSES: Submit your comments, identified by Docket ID No. EPA-R04-OAR-2020-0676 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include a discussion of all points you wish to make. EPA will generally not consider comments or comment contents located outside of the primary submission (i.e., on the web, cloud, or other file sharing system). For additional submission methods, the full EPA public comment policy, information about CBI or multimedia submissions, and general guidance on making effective comments, please visit www2.epa.gov/dockets/commenting-epa-dockets.

FOR FURTHER INFORMATION CONTACT: Tiereny Bell, Air Regulatory Management Section, Air Planning and Implementation Branch, Air and Radiation Division, U.S. Environmental Protection Agency, Region 4, 61 Forsyth Street SW, Atlanta, Georgia 30303-8960. The telephone number is (404) 562-9088. Ms. Bell can also be reached via electronic mail at bell.tiereny@epa.gov.

SUPPLEMENTARY INFORMATION:

I. What is EPA proposing?

On April 24, 2020, SC DHEC submitted a SIP revision to EPA for approval that includes a non-substantive formatting change and the removal of a sentence describing test methods for gaseous fluorides from South Carolina Regulation Standard No. 2—Ambient Air Quality Standards.¹ EPA is proposing to approve these changes submitted by South Carolina on April 24, 2020 pursuant to the CAA.

¹ On April 24, 2020, SC DHEC also submitted to EPA SIP revisions to Regulations: 61-62.1, Section I—Definitions; 61-62.1, Section II—Permit Requirements; 61-62.1, Section III—Emission Inventory and Emissions Statement; 61-62.1, Section IV—Source Tests; 61-62.1, Section V—Credible Emissions; 61-62.5, Standard 5.2—Control of Oxides of Nitrogen (NOX); 61-62.5, Standard 7—Prevention of Significant Deterioration; and 61-62.5, Standard 7.1—Nonattainment New Source Review (NSR). EPA will address these SIP revisions in separate actions.

II. Background

SC DHEC has requested approval of two changes to South Carolina Regulation 61-62.5, Standard No. 2—Ambient Air Quality Standards. First, SC DHEC proposes to update the formatting of references to the Code of Federal Regulations (CFR) by adding the word “Part” to CFR references in this regulation. This is a non-substantive, ministerial change. Second, SC DHEC proposes to remove a sentence referencing test methods for gaseous fluorides from this regulation. EPA previously approved removal of standards applicable to gaseous fluorides (as hydrogen flouride) from South Carolina Regulation 61-62.5, Standard No. 2—Ambient Air Quality Standards, on June 29, 2017. See 82 FR 29414. EPA's June 29, 2017 action was premised on the fact that SC DHEC regulates hydrogen fluoride under South Carolina Regulation 61-62.5, Standard No. 8—Toxic Air Pollutants, which is not part of South Carolina's SIP.²

² Hydrogen fluoride is a hazardous air pollutant (HAP).

Although EPA's prior action approved SC DHEC's request to remove standards for gaseous fluorides (as hydrogen fluoride) from South Carolina Regulation 61-62.5, Standard No. 2—Ambient Air Quality Standards, this prior action did not remove the related language describing testing standards for gaseous fluorides that was contained in this same regulation. SC DEHC's current proposal to remove the language from this regulation regarding test methods for gaseous fluorides would correct this inconsistency by removing this remaining language from South Carolina Regulation 61-62.5, Standard No. 2—Ambient Air Quality Standards.

III. Analysis of the State's Submittal

The analysis previously provided by EPA in its June 29, 2017 action approving removal of gaseous fluorides (as hydrogen fluoride) from South Carolina Regulation 61-62.5, Standard No. 2—Ambient Air Quality Standards, remains applicable today. Gaseous fluorides (as hydrogen fluoride) are not criteria pollutants. They are hazardous air pollutants, which SC DHEC regulates under South Carolina Regulation 61-62.5, Standard No. 8—Toxic Air Pollutants, a regulation that is outside of South Carolina's SIP. Approving the removal of this language from the South Carolina SIP is appropriate because there are no primary or secondary national ambient air quality standards related to this pollutant and because the testing standards for gaseous fluorides do not function in the SIP because EPA previously removed the standards for these pollutants from the SIP. The remaining changes to South Carolina Regulation 61-62.5, Standard No. 2—Ambient Air Quality Standards are non-substantive formatting changes. For these reasons, this SIP revision would not interfere with any applicable requirement concerning attainment and reasonable further progress or any other CAA requirement pursuant to CAA section 110(l).

IV. Incorporation by Reference

In this document, EPA is proposing to include in a final EPA rule regulatory text that includes incorporation by reference. In accordance with requirements of 1 CFR 51.5, EPA is proposing to incorporate by reference South Carolina Regulation 61-62.5, Standard No. 2—Ambient Air Quality Standards, state effective on April 24, 2020. EPA has made and will continue to make these materials generally available through www.regulations.gov and at the EPA Region 4 office (please contact the person identified in the For Further Information Contact section of this preamble for more information).

V. Proposed Action

EPA is proposing to approve SC DEHC's April 24, 2020 SIP submittal proposing revisions to South Carolina Regulation 61-62.5, Standard No. 2—Ambient Air Quality Standards and incorporate those revisions into the SIP. EPA has determined that these revisions meet the applicable requirements of sections 110 of the CAA and applicable regulatory requirements at 40 CFR part 51.

VI. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This proposed action merely proposes to approve state law as meeting Federal requirements and does not propose to impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

Because this proposed rule merely approves state law as meeting Federal requirements and does not impose additional requirements beyond those imposed by state law, this proposed rule for the State of South Carolina does not have Tribal implications as specified by Executive Order 13175 (65 FR 67249, November 9, 2000). Therefore, this action will not impose substantial direct costs on Tribal governments or preempt Tribal law. The Catawba Indian Nation (CIN) Reservation is located within the boundary of York County, South Carolina. Pursuant to the Catawba Indian Claims Settlement Act, S.C. Code Ann. 27-16-120 (Settlement Act), “all state and local environmental laws and regulations apply to the [Catawba Indian Nation] and Reservation and are fully enforceable by all relevant state and local agencies and authorities.” The CIN also retains authority to impose regulations applying higher environmental standards to the Reservation than those imposed by state law or local governing bodies, in accordance with the Settlement Act.

List of Subjects in 40 CFR Part 52

Environmental protection, Air pollution control, Incorporation by reference, Intergovernmental relations, Reporting and recordkeeping requirements, Volatile organic compounds.

Authority: 42 U.S.C. 7401 et seq.

Dated: May 20, 2021.
John Blevins,
Acting Regional Administrator, Region 4.

[FR Doc. 2021-11113 Filed 5-26-21; 8:45 am]

BILLING CODE 6560-50-P